NUCLEAR REGULATORY COMMISSION

[Docket Nos. 52-018 and 52-019; NRC-2008-0170; Docket Nos. 52-022 and 52-023; NRC-2008-0231; Docket Nos. 52-029 and 52-030; NRC-2008-0558; Docket Nos. 52-040 and 52-041; NRC-2009-0337]

Notice of Availability of Combined License Applications

ACTION: Combined license applications; receipt.

SUMMARY: The U.S. Nuclear Regulatory Commission (NRC) is giving notice once each week for four consecutive weeks of combined license (COL) applications from Progress Energy Florida, Inc., Duke Energy Carolinas, LLC, Progress Energy Carolinas, Inc., and Florida Power & Light Company.

ADDRESSES: You can access publicly available documents related to this action using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The ADAMS accession numbers for the initial application cover letters are as follows: ML073510494 for William States Lee III Nuclear Station Units 1 and 2, ML080580078 for Shearon Harris Nuclear Power Plant Units 2 and 3; ML082260277 for Levy Nuclear Plant Units 1 and 2; and ML091830589 for Turkey Point Units 6 and 7.

• Federal Rulemaking Web site: Public comments and supporting materials related to this action can be found at http://www.regulations.gov by searching on Docket ID NRC-2008-0170 (William States Lee III Nuclear Station Units 1 and 2), NRC-2008-0231 (Shearon Harris Nuclear Power Plant Units 2 and 3), NRC-2008-0558 (Levy Nuclear Plant Units 1 and 2), and NRC-2009-0337 (Turkey Point Units 6 and 7). Address questions about NRC dockets to Carol Gallagher, telephone: (301) 492-3668; email: Carol.Gallagher@nrc.gov.

The applications are also available at http://www.nrc.gov/reactors/new-reactors/col.html.

FOR FURTHER INFORMATION CONTACT: Donald Habib, Office of New Reactors, U.S. Nuclear Regulatory Commission, Washington, DC 20555-0001, telephone: (301) 415-1035, email: Donald.Habib@nrc.gov.

SUPPLEMENTARY INFORMATION: The following parties have filed applications for COLs with the NRC, pursuant to Section 103 of the Atomic Energy Act of 1954, as amended, and Title 10 of the Code of Federal Regulations (10 CFR) part 52, “Licenses, Certifications, and Approvals for Nuclear Power Plants:”

1. On December 12, 2007, Duke Energy Carolinas, LLC, submitted an application for COLs for two AP1000 advanced passive pressurized water reactors designated as William States Lee III Nuclear Station Units 1 and 2 in Cherokee County, South Carolina.

2. On February 18, 2008, Progress Energy Carolinas, Inc., submitted an application for COLs for two AP1000 advanced passive pressurized water reactors designated as Shearon Harris Nuclear Power Plant Units 2 and 3 in Wake County, North Carolina.

3. On July 28, 2008, Progress Energy Florida, Inc., submitted an application for COLs for two AP1000 advanced passive pressurized water reactors designated as Levy Nuclear Plant Units 1 and 2 in Levy County, Florida.

4. On June 30, 2009, Florida Power & Light Company submitted an application for COLs for two AP1000 advanced passive pressurized water reactors designated as Turkey Point Units 6 and 7 in Miami-Dade County, Florida.

These four applications are currently under review by the NRC staff.

An applicant may seek a COL in accordance with Subpart C of 10 CFR Part 52. The information submitted by the applicant includes certain administrative information, such as financial qualifications submitted pursuant to 10 CFR 52.77, as well as technical information submitted pursuant to 10 CFR 52.79. These notices are being provided in accordance with the requirements in 10 CFR 50.43(a)(3).

For the Nuclear Regulatory Commission.
Dated at Rockville, Maryland, this 14th day of November 2011.
Jeffrey Cruz,
Chief, AP1000 Projects Branch 1, Division of New Reactor Licensing, Office of New Reactors.

[FR Doc. 2011-29828 Filed 11-17-11; 8:45 am]

BILLING CODE 7590-01-P